NUCLEAR REGULATORY COMMISSION

[Docket Nos. STN 50-528, STN 50-529, STN 50-530, and 72-44; NRC-2021-0031]

In the Matter of Arizona Public Service Company and Public Service Company of New Mexico; Palo Verde Nuclear Generating Station, Units 1, 2, and 3, and Independent Spent Fuel Storage Installation

AGENCY: Nuclear Regulatory Commission.

ACTION: Indirect transfer of licenses; extending effectiveness of order.

SUMMARY: The U.S. Nuclear Regulatory Commission (NRC) is issuing an order to extend until May 25, 2024, the effectiveness of a May 25, 2021, order, which approved the indirect transfer of Public Service Company of New Mexico's interests in Renewed Facility Operating License Nos. NPF-41, NPF-51, and NPF-74 for the Palo Verde Nuclear Generating Station (Palo Verde), Units 1, 2, and 3, respectively, and the associated general license for the Palo Verde independent spent fuel storage installation to Avangrid, Inc.

DATES: The order was issued on March 14, 2023, and was effective upon issuance.

ADDRESSES: Please refer to Docket ID NRC-2021-0031 when contacting the NRC about the availability of information regarding this document. You may obtain publicly available information related to this document using any of the following methods:

• Federal Rulemaking Website: Go to https://www.regulations.gov and search for Docket ID NRC-2021-0031. Address questions about Docket IDs in Regulations.gov to Stacy Schumann; telephone: 301-415-0624; email: Stacy.Schumann@nrc.gov. For technical questions, contact the individual listed in the FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The written application for extending the effectiveness of the indirect transfer order is available in ADAMS under Accession No. ML23041A441. The order extending the effectiveness of the approval of the indirect transfer of licenses is available in ADAMS under Accession No. ML23045A355.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time, Monday through Friday, except Federal holidays.

FOR FURTHER INFORMATION CONTACT: Dennis J. Galvin, Office of Nuclear Reactor Regulation, U.S. Nuclear Regulatory Commission, Washington, DC 20555-0001, telephone: 301-415-6256, email: Dennis.Galvin@nrc.gov.

SUPPLEMENTARY INFORMATION: The text of the order is attached.

Dated: March 15, 2023.
For the Nuclear Regulatory Commission.
Dennis J. Galvin,
Project Manager, Plant Licensing Branch IV, Division of Operating Reactor Licensing, Office of Nuclear Reactor Regulation.

Attachment—Order Extending the Effectiveness of the Approval of the Indirect Transfer of Licenses

United States of America

Nuclear Regulatory Commission

In the Matter of: Arizona Public Service Company, Public Service Company of New Mexico, Palo Verde Nuclear Generating Station, Units 1, 2, 3, and Independent Spent Fuel Storage Installation.

Docket Nos.: STN 50-528, STN 50-529, STN 50-530, and 72-44

License Nos.: NPF-41, NPF-51, and NPF-74

Order Extending the Effectiveness of the Approval of the Indirect Transfer of Licenses

I

Arizona Public Service Company (APS) is the licensed operator and a licensed co-owner of Renewed Facility Operating License Nos. NPF-41, NPF-51, and NPF-74 for the Palo Verde Nuclear Generating Station (Palo Verde), Units 1, 2, and 3, respectively, and the associated general license for the Palo Verde independent spent fuel storage installation (the licenses). Palo Verde is located in Maricopa County, Arizona. The other licensed co-owners (tenants-in-common), Salt River Project Agricultural Improvement and Power District; Southern California Edison Company; El Paso Electric Company; Public Service Company of New Mexico (PNM); Southern California Public Power Authority; and Los Angeles Department of Water and Power, hold possession-only rights for the licenses (i.e., they are not licensed to operate the facility).

II

By application dated December 2, 2020 (Agencywide Documents Access and Management System (ADAMS) Accession No. ML20337A344), as supplemented by letters dated February 26, 2021, and May 14, 2021 (ML21061A156 and ML21134A244, respectively), APS, on behalf of PNM, Avangrid, Inc. (Avangrid), and their corporate affiliates (together, the applicants), requested, pursuant to Section 184 of the Atomic Energy Act of 1954, as amended, and Title 10 of the Code of Federal Regulations (10 CFR) Sections 50.80, “Transfer of licenses,” and 72.50, “Transfer of license,” that the U.S. Nuclear Regulatory Commission (NRC, the Commission) consent to the indirect transfer of PNM's 10.2 percent tenant-in-common interest and possession-only rights in the licenses to Avangrid. By indirect transfer order dated May 25, 2021, the Commission consented to this indirect transfer. By its terms, the indirect transfer order becomes null and void if the transfer is not completed within 1 year (i.e., by May 25, 2022), provided, however, that upon written application and for good cause shown, such date may be extended by order. On May 10, 2022, the NRC issued an order extending the effectiveness of the indirect transfer order from May 25, 2022, to May 25, 2023 (ML22101A266) in response to a request dated February 8, 2022 (ML22040A068).

III

By letter dated February 10, 2023 (ADAMS Accession No. ML23041A441), the applicants submitted a written application to further extend the effectiveness of the indirect transfer order by 1 year, until May 25, 2024. As stated in the application, by order dated December 8, 2021, the New Mexico Public Regulation Commission (NMPRC) declined to issue the regulatory approvals necessary for the applicants to consummate the proposed indirect transfer. The applicants have obtained all other required regulatory approvals, but they cannot proceed with the transfer without the approval of the NMPRC. On January 3, 2022, the applicants filed a Notice of Appeal of the NMPRC order to the Supreme Court of New Mexico. It is not expected, however, that these further legal proceedings will be resolved within the 1-year effectiveness of the extended indirect transfer order (i.e., by May 25, 2023). The extension would allow adequate time for the applicants to obtain the required regulatory approval and consummate the transfer.

Based on the above, the NRC staff has determined that the applicants have shown good cause for extending the effectiveness of the indirect transfer order by 1 year, as requested.

IV

Accordingly, pursuant to Sections 161b, 161i, and 184 of the Atomic Energy Act of 1954, as amended, 42 U.S.C. 2201(b), 2201(i), and 2234; and 10 CFR 50.80 and 10 CFR 72.50, it is hereby ordered that the effectiveness of the indirect transfer order dated May 25, 2021, is extended until May 25, 2024. Should the subject indirect license transfer from PNM to Avangrid not be completed by May 25, 2024, the indirect transfer order shall become null and void, provided, however, that upon written application and for good cause shown, such date may be extended by order.

This Order is effective upon issuance.

For further details with respect to this Order, see the written application for extension dated February 10, 2023, which is available electronically through ADAMS in the NRC Library at https://www.nrc.gov/reading-rm/adams.html under Accession No. ML23041A441. Persons who encounter problems with ADAMS should contact the NRC's Public Document Room reference staff by telephone at 1-800-397-4209 or 301-415-4737 or by email to PDR.Resource@nrc.gov.

Dated: March 14, 2023.

For the Nuclear Regulatory Commission.

/RA/

Gregory F. Suber,

Deputy Director, Division of Operating Reactor Licensing, Office of Nuclear Reactor Regulation.

[FR Doc. 2023-05592 Filed 3-17-23; 8:45 am]

BILLING CODE 7590-01-P